DEPARTMENT OF THE INTERIOR

National Park Service

[NPS-WASO-NAGPRA-NPS0034802; PPWOCRADN0-PCU00RP14.R50000]

Notice of Intent To Repatriate Cultural Items: U.S. Department of the Interior, Bureau of Indian Affairs, Washington, DC

AGENCY: National Park Service, Interior.

ACTION: Notice.

SUMMARY: The U.S. Department of the Interior, Bureau of Indian Affairs (BIA), in consultation with the appropriate Indian Tribes or Native Hawaiian organizations, has determined that the cultural items listed in this notice meet the definition of unassociated funerary objects, sacred objects, and objects of cultural patrimony. Lineal descendants or representatives of any Indian Tribe or Native Hawaiian organization not identified in this notice that wish to claim these cultural items should submit a written request to the BIA. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the BIA at the address in this notice by December 7, 2022.

ADDRESSES: Tamara Billie, NAGPRA Coordinator, Bureau of Indian Affairs, 1001 Indian School Road NW, Mailbox 44—Suite 345, Albuquerque, NM 87104, telephone (505) 879-9711, email tamara.billie@bia.gov.

SUPPLEMENTARY INFORMATION: Notice is here given in accordance with the Native American Graves Protection and Repatriation Act (NAGPRA), 25 U.S.C. 3005, of the intent to repatriate cultural items under the control of the U.S Department of the Interior, Bureau of Indian Affairs, Washington, DC, that meet the definition of unassociated funerary objects, sacred objects, and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

All 376 cultural items listed in this notice were removed at an unknown date or dates from various sites located on the Wind River Indian Reservation, in Fremont County, WY, and at an unknown date or dates, these cultural items came into the possession of Theodore Sowers. In 1995, Sowers' daughters transferred these cultural items to Sowers' alma mater, the University of Denver. The 376 cultural items include 25 associated funerary objects, one sacred object, and 350 objects of cultural patrimony.

The 25 unassociated funerary objects are one ammunition belt (DU ID#1995.1.91), one arrow shaft (DU ID#1995.1.73), one awl (DU ID#1995.1.84), four fragments of beadwork (DU ID#1995.1.77 A-B and 1995.1.78 A-B), one bridle (DU ID#1995.1.83), two Sun Dance brooches (DU ID#1995.1.88-89), one choker (DU ID#1995.1.76), one earring (DU ID#1995.1.74), two gaming sticks (DU ID#1995.1.82 A-B), one necklace (DU ID#1995.1.79), two pouch fragments (DU ID#1995.1.75 and 1995.1.80), one riding crop (DU ID#1995.1.93), one saddle (DU ID#1995.1.92 A-D), one saddle horn (DU ID#1995.1.90), two scrapers (DU ID#1995.1.85-86), one pipe stem (DU ID#1995.1.87), and two tools (DU ID#1995.1.81 A-B). Museum records indicate that these 25 unassociated funerary objects were removed from a burial.

The one sacred object is a Sun Dance whistle (DU ID #1995.1.72). This determination is based on information presented during consultation with Eastern Shoshone Tribal Historic Preservation Office (THPO) staff and a Cultural/Spiritual Representative in March of 2019.

The 350 objects of cultural patrimony are 23 utilized lithic flakes (DU ID#WY WR.1), one steatite jar (DU ID#2879), 20 tools (DU ID#1995.1.283-288 and 1995.1.308-321), one stone core (DU ID#1995.1.1259), one unworked stone (DU ID#1995.1.595), seven fern fossils (DU ID#1995.1.1826-1832), two fossils (DU ID#1995.1.1835 and 1995.1.1837), one stone knife (DU ID#1995.1.210), three pieces of petrified wood (1995.1.1833-1834 and 1995.1.1836), four stone scrapers (DU ID#1995.1.209, 1995.1.217, 1995.1.221, and 1995.1.223), two stone choppers (DU ID#1995.1.739-740), four stone cores (DU ID#1995.1.733-736), 23 utilized lithic flakes (DU ID#1995.1.741-763), 18 stone knives (DU ID#1995.1.715-732), two stone manos (DU ID#1995.1.737-738), 45 stone scrapers (DU ID#1995.1.670-714), 19 stone tools (DU ID#1995.1.289-307), one stone abrader (DU ID#1995.1.936), eight stone bifaces (DU ID#1995.1.887-888, 1995.1.891, and 1995.1.893-897), eight stone choppers (DU ID#1995.1.819, 1995.1.928-933, and 1995.1.938), one coprolite (DU ID#1995.1.937), two stone cores (DU ID#1995.1.934-935), four stone drills (DU ID#1995.1.808, 1995.1.905-907), nine lithic flakes (DU ID#1995.1.913-914, 1995.1.918, 1995.1.921-923, and 1995.1.925-927), four utilized lithic flakes (DU ID#1995.912, 1995.1.919-920, and 1995.1.924), 36 stone knives (DU ID#1995.1.810-818. 1995.1.822-841, 1995.1.889-890, 1995.1.892, 1995.1.898-900, and 1995.1.909), three stone projectile points (DU ID#1995.1.768-770), two rocks coated in red ochre (DU ID#1995.1.939-940), one lot of stone scrapers (DU ID#1995.1.776-786, 1995.1.788-807, 1995.1.820-821, 1995.1.842, 1995.1.885-886, 1995.1.901-904, 1995.1.908, 1995.1.911, and 1995.1.915-917), one sinker (DU ID#1995.1.809), one stone uniface (1995.1.910), one stone knife (DU ID#1995.1.765), one stone projectile point (DU ID#1995.1.767), two stone scrapers (DU ID#1995.1.764 and 1995.1.766), two lithic flakes (DU ID#1995.1.772-773), one stone projectile point (DU ID#1995.1.771), three stone scrapers (DU ID#1995.1.774-775 and 1995.1.787), two stone knives (DU ID#1995.1.874 and 1995.1.878), 40 stone scrapers (DU ID#1995.1.843-873, 1995.1.875-877, and 1995.1.879-884), six stone choppers (DU ID#1995.1.1279-1284), one stone core (DU ID#1995.1.1278), 11 stone knives (DU ID#1995.1.1276-1277, 1995.1.207-208, 1995.1.211-212, 1995.1.222, 1995.1.224-225, and 1995.1.228), and 23 stone scrapers (DU ID#1995.1.1262-1274, 1995.1.206, 1995.1.213-216, 1995.1.218-220, and 1995.1.226-227). This determination is based on information presented during consultation with Eastern Shoshone Tribal Historic Preservation Office (THPO) staff and a Cultural/Spiritual Representative in March of 2019.

Based on information in the possession of the BIA, which includes information obtained during consultation, the items listed in this notice are culturally affiliated with the Eastern Shoshone Tribe of the Wind River Reservation, Wyoming (previously listed as Shoshone Tribe of the Wind River Reservation, Wyoming). This Indian Tribe has been living on the Wind River Mountain range and its environs for some 12,000 years.

Determinations Made by the U.S Department of the Interior, Bureau of Indian Affairs

Officials of the U.S. Department of the Interior, Bureau of Indian Affairs have determined that:

• Pursuant to 25 U.S.C. 3001(3)(B), 25 of the cultural items described above are reasonably believed to have been placed with or near individual human remains at the time of death or later as part of the death rite or ceremony and are believed, by a preponderance of the evidence, to have been removed from a specific burial site of a Native American individual.

• Pursuant to 25 U.S.C. 3001(3)(C), one of the cultural items described above is a specific ceremonial object needed by traditional Native American religious leaders for the practice of traditional Native American religions by their present-day adherents.

• Pursuant to 25 U.S.C. 3001(3)(D), 350 of the cultural items described above have ongoing historical, traditional, or cultural importance central to the Native American group or culture itself, rather than property owned by an individual.

• Pursuant to 25 U.S.C. 3001(2), there is a relationship of shared group identity that can be reasonably traced between the unassociated funerary objects, sacred objects, and objects of cultural patrimony and the Eastern Shoshone Tribe of the Wind River Reservation, Wyoming (previously listed as Shoshone Tribe of the Wind River Reservation, Wyoming).

Additional Requestors and Disposition

Lineal descendants or representatives of any Indian Tribe or Native Hawaiian organization not identified in this notice that wish to claim these cultural items should submit a written request with information in support of the claim to Tamara Billie, NAGPRA Coordinator, Bureau of Indian Affairs, 1001 Indian School Road NW, Mailbox 44—Suite 345, Albuquerque, NM 87104, telephone (505) 879-9711, email tamara.billie@bia.gov, by December 7, 2022. After that date, if no additional claimants have come forward, transfer of control of the unassociated funerary objects, sacred object, and objects of cultural patrimony to the Eastern Shoshone Tribe of the Wind River Reservation, Wyoming (previously listed as Shoshone Tribe of the Wind River Reservation, Wyoming) may proceed.

The U.S. Department of the Interior, Bureau of Indian Affairs, with assistance from the Denver Museum is responsible for notifying the Eastern Shoshone Tribe of the Wind River Reservation, Wyoming (previously listed as Shoshone Tribe of the Wind River Reservation, Wyoming) that this notice has been published.

Dated: October 26, 2022.
Melanie O'Brien,
Manager, National NAGPRA Program.

[FR Doc. 2022-24221 Filed 11-4-22; 8:45 am]

BILLING CODE 4312-52-P